DEPARTMENT OF COMMERCE

International Trade Administration

[A-570-909]

Certain Steel Nails From the People's Republic of China: Final Results of Antidumping Duty Administrative Review and Final Rescission of Review, In Part; 2022-2023

AGENCY: Enforcement and Compliance, International Trade Administration, Department of Commerce.

SUMMARY: The U.S. Department of Commerce (Commerce) determines that Shanghai Yueda Nails Co., Ltd., a.k.a. Shanghai Yueda Nails Industry Co., Ltd. (Shanghai Yueda), an exporter of certain steel nails from the People's Republic of China (China), sold subject merchandise in the United States at prices below normal value (NV) during the period of review (POR) August 1, 2022, through July 31, 2023.

DATES: Applicable June 16, 2025.

FOR FURTHER INFORMATION CONTACT: Hannah Lee, AD/CVD Operations, Office VIII, Enforcement and Compliance, International Trade Administration, Department of Commerce, 1401 Constitution Avenue NW, Washington, DC 20230; telephone: (202) 482-1216.

SUPPLEMENTARY INFORMATION:

Background

On September 13, 2024, Commerce published the Preliminary Results of this administrative review.¹ On December 9, 2024, Commerce tolled certain deadlines in this administrative proceeding by 90 days.² On March 20, 2025, Commerce extended the deadline for the final results by 42 days.³ On May 15, 2025, Commerce further extended the deadline for the final results. The current deadline for the final results of this review is June 10, 2025.⁴ For the events subsequent to the Preliminary Results, see the Issues and Decision Memorandum.⁵

¹ See Certain Steel Nails from the People's Republic of China: Preliminary Results of Antidumping Duty Administrative Review and Intent to Rescind, in Part; 2022-2023, 89 FR 74882 (September 13, 2024) (Preliminary Results), and accompanying Preliminary Decision Memorandum.

² See Memorandum, “Tolling of Deadlines for Antidumping and Countervailing Duty Proceedings,” dated December 9, 2024.

³ See Memorandum, “Extension of Deadline for Final Results of Antidumping Duty Administrative Review,” dated March 20, 2025.

⁴ See Memorandum, “Extension of Deadline for Final Results of Antidumping Duty Administrative Review,” dated May 15, 2025.

⁵ See Memorandum, “Issues and Decision Memorandum for the Final Results of Antidumping Duty Administrative Review of Certain Steel Nails from the People's Republic of China; 2022-2023,” dated concurrently with, and hereby adopted by, this notice (Issues and Decision Memorandum).

Scope of the Order ⁶

⁶ See Notice of Antidumping Duty Order: Certain Steel Nails from the People's Republic of China, 73 FR 44961 (August 1, 2008) (Order).

The products covered by the Order are nails from China. A full description of the scope of the Order is contained in the Issues and Decision Memorandum.

Analysis of Comments Received

All issues raised by interested parties in briefs are addressed in the Issues and Decision Memorandum. A list of the issues addressed in the Issues and Decision Memorandum is provided in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on a review of the record and comments received from interested parties regarding the Preliminary Results, and for the reasons explained in the Issues and Decision Memorandum, Commerce made certain changes to the margin calculations for Shanghai Yueda.⁷

⁷ See Memorandum, “Final Results Calculation Memorandum for Shanghai Yueda,” dated concurrently with this notice; and Memorandum, “Surrogate Values for the Final Results,” dated concurrently with this notice.

Final Recission of Review, in Part

Pursuant to 19 CFR 351.213(d)(3), it is Commerce's practice to rescind an administrative review of an AD order when there are no reviewable entries of subject merchandise during the POR for which liquidation is suspended.⁸ Normally, upon completion of an administrative review, the suspended entries are liquidated at the AD assessment rate calculated for the review period.⁹ Therefore, for an administrative review to be conducted, there must be a reviewable, suspended entry that Commerce can instruct U.S. Customs and Border Protection (CBP) to liquidate at the AD assessment rate calculated for the review period.¹⁰

⁸ See, e.g., Dioctyl Terephthalate from the Republic of Korea: Rescission of Antidumping Administrative Review; 2021-2022, 88 FR 24758 (April 24, 2023); see also Certain Carbon and Alloy Steel Cut-to-Length Plate from the Federal Republic of Germany: Recission of Antidumping Administrative Review; 2020-2021, 88 FR 4154 (January 24, 2023).

⁹ See 19 CFR 351.212(b)(1).

¹⁰ See 19 CFR 351.213(d)(3).

On September 6, 2024, we issued a memorandum to all interested parties listing eight companies for which we initiated this administrative review and for which there was no evidence of any suspended entries during the POR.¹¹ See Appendix II for a list of these companies. We invited parties to comment, and we received no comments. Accordingly, in the absence of suspended entries of subject merchandise during the POR, we are hereby rescinding this administrative review for these eight companies, in accordance with 19 CFR 351.213(d)(3).

¹¹ See Preliminary Results PDM.

China-Wide Entity

In our Preliminary Results, we determined that S-Mart (Tianjin) Technology Development Co., Ltd. (S-Mart) failed to establish its eligibility for a separate rate because it did not file a separate rate application with Commerce. As such, we preliminarily determined that S-Mart is part of the China-wide entity.¹² We received no arguments since the issuance of the Preliminary Results that provide a basis for reconsideration of this determination. Therefore, for these final results, we continue to find that S-Mart is a part of the China-wide entity.

¹² Because no interested party requested a review of the China-wide entity and Commerce no longer considers the China-wide entity as an exporter conditionally subject to administrative reviews, we did not conduct a review of the China-wide entity. Thus, the rate (i.e., 118.04 percent) for the China-wide entity is not subject to change as a result of this review. See Antidumping Proceedings: Announcement of Change in Department Practice for Respondent Selection in Antidumping Duty Proceedings and Conditional Review of the Nonmarket Economy Entity in NME Antidumping Duty Proceedings, 78 FR 65963, 65969-70 (November 4, 2013).

Final Results of Administrative Review

Commerce determines that the following estimated weighted-average dumping margin exists for the period August 1, 2022, through July 31, 2023:

Exporter | Weighted- average dumping margin (percent)
Shanghai Yueda Nails Co., Ltd., a.k.a. Shanghai Yueda Nails Industry Co., Ltd | 11.73

Disclosure

We intend to disclose the calculations performed for the final results of this review to parties in this proceeding within five days of the date of publication of this notice in accordance with 19 CFR 351.224(b).

Assessment Rates

Pursuant to section 751(a)(2)(A) of the Act and 19 CFR 351.212(b), Commerce has determined, and U.S Customs and Border Protection (CBP) shall assess, antidumping duties on all appropriate entries covered by this review. For Shanghai Yueda, which has been assigned a weighted-average dumping margin that is not zero or de minimis (i.e., less than 0.5 percent), we calculated importer-specific per-unit assessment rates by dividing the total amount of dumping for reviewed sales of subject merchandise to that importer (or customer) by the total quantity sold to that importer (or customer).

We will instruct CBP to assess antidumping duties on all appropriate entries covered by this review when the importer-specific assessment rate calculated is above de minimis (i.e., 0.50 percent). To determine whether the duty assessment rates are de minimis, in accordance with the requirement set forth in 19 CFR 351.106(c)(2), we calculate importer- (or customer-) specific ad valorem ratios based on the estimated entered value. Where an importer-specific per-unit assessment rate is zero or de minimis, Commerce will instruct CBP to liquidate appropriate entries without regard to antidumping duties.¹³

¹³ See 19 CFR 351.106(c)(2).

Pursuant to a refinement in our non-market economy practice, for sales that were not reported in the U.S. sales data submitted by Shanghai Yueda, we will instruct CBP to liquidate entries associated with those sales at the rate for the China-wide entity. For entries of subject merchandise during the POR produced by Shanghai Yueda for which they did not know their merchandise was destined for the United States, we intend to instruct CBP to liquidate such entries at the China-wide rate if there is no rate for the intermediate company or companies involved in the transaction.

We will instruct CBP to apply an ad valorem assessment rate of 118.04 percent to all POR entries of subject merchandise which were exported by the companies in the China-wide entity, including S-Mart. In addition, we will instruct CBP to assess any suspended entries of subject merchandise associated with the companies listed in the “Recission of Review” section above at a rate equal to the cash deposit rate of estimated antidumping duties required at the time of entry, or withdrawal from warehouse, for consumption in accordance with 19 CFR 351.212(c)(1)(i).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication of these final results for all shipments of the subject merchandise from China entered, or withdrawn from warehouse, for consumption on or after the publication date, as provided by section 751(a)(2)(C) of the Act: (1) for Shanghai Yueda, the cash deposit rate will be equal to the weighted-average dumping margin listed in the table above; (2) for previously examined Chinese and non-Chinese exporters not listed above that received a separate rate in a prior completed segment of this proceeding, the cash deposit rate will continue to be the existing exporter-specific cash deposit rate; (3) for all Chinese exporters of subject merchandise that have not been found to be entitled to a separate rate, the cash deposit rate will be the rate for the China-wide entity (i.e., 118.04 percent); and (4) for all non-Chinese exporters of subject merchandise which have not received their own separate rate, the cash deposit rate will be the rate applicable to the Chinese exporter that supplied that non-Chinese exporter. These cash deposit requirements, when imposed, shall remain in effect until further notice.

Notification to Importers Regarding the Reimbursement of Duties

This notice also serves as a final reminder to importers of their responsibility under 19 CFR 351.402(f)(2) to file a certificate regarding the reimbursement of antidumping duties prior to liquidation of the relevant entries during this POR. Failure to comply with this requirement could result in Commerce's presumption that reimbursement of antidumping duties has occurred and the subsequent assessment of double antidumping duties.

Administrative Protective Order (APO)

This notice also serves as a reminder to parties subject to an APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

We are issuing and publishing these final results of administrative review and notice in accordance with sections 751(a)(1) and 777(i) of the Act.

Dated: June 10, 2025.
Steven Presing,
Acting Deputy Assistant Secretary for Policy and Negotiations.

Appendix I

List of Topics Discussed in the Issues and Decision Memorandum

I. Summary

II. Background

III. Scope of the Order

IV. Changes Since the Preliminary Results

V. Discussion of the Issues

Comment 1: Surrogate Country Selection and Selection of Surrogate Values and Financial Statements

Comment 2: Whether Commerce Should Collapse Shanghai Yueda Nails Co., Ltd. (Shanghai Yueda) and Shanghai Yueda Nails (Chuzhou) Ltd. (Chuzhou Yueda)

Comment 3: Timeliness of Shanghai Yueda's Surrogate Value Submission

Comment 4: Correction to Movement Expenses

Comment 5: Correction to Unit of Measurement for U.S. Quantity

Comment 6: Correction to Packing Cost Calculation

VI. Recommendation

Appendix II

Companies for Which the Administrative Review Has Been Rescinded

1. Hebei Minmetals Co., Ltd.

2. Nanjing Caiqing Hardware Co., Ltd.

3. Nanjing Yuechang Hardware Co., Ltd.

4. Shandong Qingyun Hongyi Hardware Products Co., Ltd.

5. Shanxi Hairui Trade Co., Ltd.

6. Suntec Industries Co., Ltd.

7. Tianjin Jinchi Metal Products Co., Ltd.

8. Xi'an Metals & Minerals Import & Export Co., Ltd.

[FR Doc. 2025-10947 Filed 6-13-25; 8:45 am]

BILLING CODE 3510-DS-P